DEPARTMENT OF LABOR

Employment and Training Administration

[TA-W-51, 479]

Andrews Wire Company, Andrews, SC; Notice of Termination of Investigation

Pursuant to Section 221 of the Trade Act of 1974, as amended, an investigation was initiated on April 11, 2003 in response to a worker petition filed by a company official on behalf of workers at Andrews Wire Company, Andrews, South Carolina.

This worker group, in its entirety, is under a certification for trade adjustment assistance benefits. That certification is valid until June 11, 2004. The valid certification was issued for Insteel Wire Products Company. The worker group under that name is the same as that of Andrews Wire Company, the new name for the subject firm. Thus, this investigation serves no purpose and is being terminated.

Signed at Washington, DC this 14th day of April 2003.
Richard Church,
Certifying Officer, Division of Trade Adjustment Assistance.

[FR Doc. 03-10347 Filed 4-25-03; 8:45 am]

BILLING CODE 4510-30-P